DEPARTMENT OF THE INTERIOR

Fish and Wildlife Service

Red Rock Lakes National Wildlife Refuge, Lima, MT

AGENCY: Fish and Wildlife Service, Interior.

ACTION: Notice of intent to prepare a comprehensive conservation plan and environmental assessment; request for comments.

SUMMARY: This notice advises that the U.S. Fish and Wildlife Service (Service) intends to gather information necessary to prepare a Comprehensive Conservation Plan (CCP) and associated environmental documents for Red Rock Lakes National Wildlife Refuge (NWR) in Lima, Montana. The Service is furnishing this notice in compliance with Service CCP policy to advise other agencies and the public of its intentions, and to obtain suggestions and information on the scope of issues to be considered in the planning process.

DATES: Written comments must be received by July 12, 2006.

ADDRESSES: Comments and requests for more information regarding Red Rock Lakes NWR should be sent to Laura King, Planning Team Leader, Tewaukon NWR, Division of Refuge Planning, 9754 1431/2 Avenue, SE., Cayuga, North Dakota 58013-9764.

FOR FURTHER INFORMATION CONTACT: Laura King, 701-724-3598, or Linda Kelly at 303-236-8132.

SUPPLEMENTARY INFORMATION: The Service has initiated a CCP for Red Rock Lakes NWR for the conservation and enhancement of its natural resources. Red Rock Lakes NWR has six establishing purposes: (1) “as a refuge and breeding ground for wild birds and animals” (Executive Order 7023, dated April 22, 1935); (2) “for use as an inviolate sanctuary, or for any other management purpose, for migratory birds” (16 U.S.C. 715d [Migratory Bird Conservation Act]); (3) “for (a) incidental fish and wildlife-oriented recreational development, (b) the protection of natural resources, [and] (c) the conservation of endangered species or threatened species” (16 U.S.C. 460k-1), “the Secretary * * * may accept and use * * * real* * * property. Such acceptance may be accomplished under the terms and conditions of restrictive covenants imposed by donors.” (16 U.S.C. 460k-2 (Refuge Recreation Act [16 U.S.C. 460k-460k-4], as amended)); (4) “the conservation of the wetlands of the Nation in order to maintain the public benefits they provide and to help fulfill international obligations contained in various migratory bird treaties and conventions” (16 U.S.C. 3901(b) [Emergency Wetlands Resources Act of 1986]); (5) “for the development, advancement, management, conservation, and protection of fish and wildlife resources” (16 U.S.C. 742f(a)(4)), “for the benefit of the United States Fish and Wildlife Service, in performing its activities and services. Such acceptance may be subject to the terms of any restrictive or affirmative covenant, or condition of servitude.” (16 U.S.C. 742f(b)(1) [Fish and Wildlife Act of 1956]); (6) “conservation, management, and restoration of the fish, wildlife, and plant resources and their habitats for the benefit of present and future generations of Americans” (16 U.S.C. 668dd(a)(2) [National Wildlife Refuge System Administration Act]).

This Refuge encompasses 58,326 acres, of which 32,350 are designated as wilderness. The Refuge lies in the high-elevation Centennial Valley and contains primarily wetland and riparian habitats. This minimally altered natural and diverse habitat provides for species such as trumpeter swans, moose, sandhill cranes, curlews, peregrine falcons, eagles, numerous hawks and owls, badgers, wolverines, bears, pronghorn, and wolves (in the backcountry). Native fish such as Arctic grayling and west-slope cutthroat trout occur in Refuge waters.

During the comprehensive planning process, management goals, objectives, and strategies will be developed to carry out the purposes of the Refuge, and to comply with laws and policies governing refuge management and public use of the Refuge.

The Service requests input as to which issues affecting management or public use should be addressed during the planning process. The Service is especially interested in receiving public input in the following areas:

(a) What do you value most about this Refuge?

(b) What problems or issues do you see affecting management of this Refuge?

(c) What changes, if any, would you like to see in the management of this Refuge?

The Service has provided the above questions for your optional use. The Service has no requirement that you provide information; however, any comments received by the Planning Team will be used as part of the planning process.

Opportunities for public input will also be provided at a public meeting to be scheduled for early summer 2006. Exact dates and times for these public meetings are yet to be determined, but will be announced via local media and a newsletter. All information provided voluntarily by mail, phone, or at public meetings (e.g., names, addresses, letters of comment, input recorded during meetings) becomes part of the official public record. If requested under the Freedom of Information Act by a private citizen or organization, the Service may provide copies of such information. The environmental review of this project will be conducted in accordance with the requirements of the National Environmental Policy Act of 1969, as amended (42 U.S.C. 4321 et seq.); NEPA Regulations (40 CFR 1500-1508); other appropriate Federal laws and regulations; Executive Order 12996; the National Wildlife Refuge System Improvement Act of 1997; and Service policies and procedures for compliance with those laws and regulations.

Dated: May 5, 2006.
James J. Slack,
Deputy Regional Director, Region 6, Denver, CO.

[FR Doc. E6-9068 Filed 6-9-06; 8:45 am]

BILLING CODE 4310-55-P